DEPARTMENT OF JUSTICE

Drug Enforcement Administration

[Docket No. DEA-392]

Manufacturer of Controlled Substances Registration: Halo Pharmaceutical, Inc.

Correction

Notice document 2016-06532, beginning on page 15567 in the issue of Wednesday, March 23, 2016, was inadvertently published and is withdrawn from that issue.

[FR Doc. C1-2016-06532 Filed 3-30-16; 8:45 am]

BILLING CODE 1505-01-D